DEPARTMENT OF HEALTH AND HUMAN SERVICES

Solicitation for Public Comments

AGENCY: Department of Health and Human Services, Office of the Secretary, Office of Public Health and Science.

ACTION: Notice.

SUMMARY: The Department of Health and Human Services (DHHS) is hereby giving notice that the National Vaccine Program Office (NVPO) is seeking comments on a draft document that has been prepared for presentation to the National Vaccine Advisory Committee (NVAC).

SUPPLEMENTARY INFORMATION: NVPO is organizationally located within the Office of Public Health and Science within the Office of the Secretary of the Department of Health and Human Services. NVPO has responsibility for coordinating and ensuring collaboration among the many Federal agencies involved in vaccine and immunization activities.

NVAC is a statutory Federal advisory committee. Establishment of the Committee was authorized under Section 2105 of the Public Health Service Act, as amended (42 U.S.C. Section 300aa-5). NVAC provides advice and makes recommendations to the Director of the National Vaccine Program on matters related to the Program. The Assistant Secretary for Health serves as Director of the National Vaccine Program. Management support for the Committee's activities is provided by the NVPO.

The NVAC charter stipulates that the Committee can utilize subcommittees and working groups to provide assistance in carrying out its function. NVAC has established four working groups for this purpose.

The Adolescent Immunization Working Group was established and has been charged to develop a series of recommendations for the programmatic and financial implementation of adolescent immunization recommendations. To comply with its charge, this Working Group has developed draft recommendations for adolescent immunization that are to be presented to NVAC for discussion in an open public session. To enhance public involvement in development of the recommendations, an opportunity is being given for the public to provide comment. The draft document can be viewed and downloaded from the NVAC Web site at http://www.hhs.gov/nvpo/nvac/index.html. Consideration will be given to the comments received for changes to be made to the draft recommendations. The draft recommendations will be presented to NVAC for discussion in an open public session.

All comments on the draft recommendations should be received no later than 5 p.m. on May 29, 2008. Comments should be sent to Shannon Stokley, MPH; Health Services Research and Evaluation Branch, Immunization Services Division; Centers for Disease Control and Prevention. Comments should be sent by e-mail to sstokley@cdc.gov or fax at (404) 639-8614.

FOR FURTHER INFORMATION CONTACT: Shannon Stokley, MPH; Health Services Research and Evaluation Branch, Immunization Services Division; National Center for Immunization and Respiratory Diseases; Centers for Disease Control; (404) 639-8734.

Dated: May 12, 2008.
Bruce Gellin,
Director, National Vaccine Program Office.

[FR Doc. E8-11067 Filed 5-16-08; 8:45 am]

BILLING CODE 4150-44-P